DEPARTMENT OF EDUCATION

[Docket No.: ED-2023-SCC-0213]

Agency Information Collection Activities; Submission to the Office of Management and Budget for Review and Approval; Comment Request; Application for Grants Under the Historically Black Colleges and Universities Master's Degree Program (1894-0001)

AGENCY: Office of Postsecondary Education, Department of Education (ED).

ACTION: Notice.

SUMMARY: In accordance with the Paperwork Reduction Act (PRA) of 1995, the Department is proposing an extension without change of a currently approved information collection request (ICR).

DATES: Interested persons are invited to submit comments on or before January 17, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Darryl Davis, (202) 453-7582.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for Grants Under the Historically Black Colleges and Universities Master's Degree Program (1894-0001).

OMB Control Number: 1840-0806.

Type of Review: Extension without change of a currently approved ICR.

Respondents/Affected Public: State, Local, and Tribal Governments Total Estimated Number of Annual Responses: 18.

Total Estimated Number of Annual Burden Hours: 306.

Abstract: The Higher Education Opportunity Act (HEOA) of 2008 amended Title VII, Subpart 4 of the Higher Education Act of 1965 to add a new master's degree program to advance educational opportunities for African Americans. The Historically Black Colleges and Universities Master's Degree Program authorizes the Department of Education (Department) to award grants to specified institutions that the Department determines are making a substantial contribution to graduate education opportunities for African Americans at the master's level in mathematics, engineering, the physical or natural sciences, computer science, information technology, nursing, allied health, or other scientific disciplines. This program provides grants for up to six years to establish or strengthen qualified master's degree programs in these fields at eligible institutions.

This collection is being submitted under the Streamlined Clearance Process for Discretionary Grant Information Collections (1894-0001). Therefore, the 30-day public comment period notice will be the only public comment notice published for this information collection.

Dated: December 13, 2023.
Kun Mullan,
PRA Coordinator, Strategic Collections and Clearance Governance and Strategy Division, Office of Chief Data Officer, Office of Planning, Evaluation and Policy Development.

[FR Doc. 2023-27704 Filed 12-15-23; 8:45 am]

BILLING CODE 4000-01-P